DEPARTMENT OF LABOR

Employment and Training Administration

[TA-W-58,377]

E.I. Dupont Victoria, TX; Notice of Termination of Investigation

Pursuant to section 221 of the Trade Act of 1974, as amended, an investigation was initiated on November 18, 2005 in response to a worker petition filed by the Texas Work Force Commission on behalf of workers at E.I. DuPont, Victoria, Texas.

The petitioner has requested that the petition be withdrawn. Consequently, the investigation has been terminated.

Signed at Washington, DC this 5th day of December, 2005
Richard Church,
Certifying Officer, Division of Trade Adjustment Assistance.

[FR Doc. E5-7608 Filed 12-20-05; 8:45 am]

BILLING CODE 4510-30-P